DEPARTMENT OF HEALTH AND HUMAN SERVICES

National Institutes of Health

National Institute of Nursing Research; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Initial Review Group.

Date: October 19-20, 2015.

Time: 8:00 a.m. to 12:00 p.m.

Agenda: To review and evaluate grant applications.

Place: Bethesda Marriott Suites, 6711 Democracy Boulevard, Bethesda, MD 20817.

Contact Person: Weiqun Li, MD, Scientific Review Officer, National Institute of Nursing Research, National Institutes of Health, 6701 Democracy Blvd. Ste. 710, Bethesda, MD 20892 (301) 594-5966 wli@mail.nih.gov.

Name of Committee: National Institute of Nursing Research Special Emphasis Panel; Institutional Training Grants

Date: October 20,2015.

Time: 12:00 p.m. to 6:00 p.m.

Agenda: To review and evaluate grant applications,

Place: Bethesda Marriott Suites, 6711 Democracy Boulevard, Bethesda, MD 20817.

Contact Person: Weiqun Li, MD, Scientific Review Administrator National Institute of Nursing Research National Institutes of Health, 6701 Democracy Blvd. Ste. 710, Bethesda, MD 20892 (301) 594-5966 wli@mail.nih.gov.

Name of Committee: National Institute of Nursing Research Special Emphasis Panel; Community Partnerships to Advance Research.

Date: October 21, 2015.

Time: 11:00 a.m. to 1:00 p.m.

Agenda: To review and evaluate grant applications.

Place: National Institutes of Health, One Democracy Plaza, 703, 6701 Democracy Boulevard Bethesda, MD 20892, (Telephone Conference Call).

Contact Person: Tamizchelvi Thyagarajan, Ph.D. Scientific Review Officer, National Institute of Nursing Research, National Institutes of Health, Bethesda, MD 20892 (301) 594-0343 tamizchelvi.thyagarajan@nih.gov.

Name of Committee: National Institute of Nursing Research Special Emphasis Panel; Effective Palliative/End of Life Care Interventions.

Date: October 22, 2015.

Time: 8:00 a.m. to 3:00 p.m.

Agenda: To review and evaluate grant applications.

Place: Bethesda Marriott Suites, 6711 Democracy Boulevard, Bethesda, MD 20817.

Contact Person: Mario Rinaudo, MD Scientific Review Officer Office of Review, National Institute of Nursing Research, National Institutes of Health, 6701 Democracy Blvd. (DEM 1), Suite 710, Bethesda, MD 20892, 301-594-5973 mrinaudo@mail.nih.gov.

Name of Committee: National Institute of Nursing Research Special Emphasis Panel; Research Project Grant.

Date: October 28, 2015.

Time: 11:00 a.m. to 1:00 p.m.

Agenda: To review and evaluate grant applications.

Place: National Institutes of Health One Democracy Plaza Room 703, 6701 Democracy Boulevard Bethesda, MD 20892, (Telephone Conference Call).

Contact Person: Tamizchelvi Thyagarajan, Ph.D. Scientific Review Officer, National Institute of Nursing Research, National Institutes of Health, Bethesda, MD 20892 (301) 594-0343 tamizchelvi.thyagarajan@nih.gov.

(Catalogue of Federal Domestic Assistance Program Nos. 93.361, Nursing Research, National Institutes of Health, HHS)

Dated: September 16, 2015.
Michelle Trout,
Program Analyst, Office of Federal Advisory Committee Policy.

[FR Doc. 2015-23639 Filed 9-21-15; 8:45 am]

BILLING CODE 4140-01-P